OFFICE OF THE UNITED STATES TRADE REPRESENTATIVE

Notice of Effective Date of Modifications to a Rule of Origin of the United States-Australia Free Trade Agreement

AGENCY: Office of the United States Trade Representative.

ACTION: Notice of effective date for goods of Australia of certain modifications to a product-specific rule of origin under the United States-Australia Free Trade Agreement (USAFTA).

SUMMARY: In Proclamation 8334 of December 31, 2008, the President modified the rules of origin for certain goods of Australia under the USAFTA. While these modifications were incorporated in the Harmonized Tariff Schedule of the United States (the “HTS”) at that time, the proclamation stated that the modifications would be effective on a date that the United States Trade Representative (USTR) announced in the Federal Register. This notice announces that the effective date for the modifications is June 1, 2012. This notice also makes a technical correction to the rule of origin as set out in proclamation 8334.

FOR FURTHER INFORMATION CONTACT: For further information, please contact Caroyl Miller, Deputy Textile Negotiator, Office of the United States Trade Representative, 600 17th Street NW., Washington, DC 20508, email address: caroyl_miller@ustr.eop.gov.

SUPPLEMENTARY INFORMATION: Presidential Proclamation 7857 of December 20, 2004, implemented the USAFTA with respect to the United States and, pursuant to the United States-Australia Free Trade Agreement Implementation Act (the “USAFTA Act”), incorporated in the HTS the tariff modifications and rules of origin necessary or appropriate to carry out the USAFTA. Section 203 of the USAFTA Implementation Act provides rules for determining whether goods imported into the United States originate in the territory of Australia and, thus, are eligible for the tariff and other treatment contemplated under the USAFTA. Section 203(o) of the USAFTA Act authorizes the President to proclaim, as a part of the HTS, the rules of origin set out in the USAFTA and to proclaim modifications to such previously proclaimed rules of origin, subject to the consultation and layover requirements of section 104 of the USAFTA Act.

The President determined pursuant to sections 201 and 203 of the USAFTA Act that the modifications to the HTS contained in Proclamation 8334 were appropriate and proclaimed such changes with respect to goods of Australia and modified general note 28 to the HTS. The proclamation further provides that the modifications are effective with respect to goods of Australia entered or withdrawn from warehouse for consumption on the date that USTR announces in a notice published in the Federal Register.

On March 15, 2012, the Government of Australia notified the Government of the United States that it had completed its applicable domestic procedures to give effect to the agreement to change the USAFTA rules of origin for certain yarns of viscose rayon fiber with respect to goods of the United States. Subsequently, officials of the Government of Australia and the Government of the United States agreed to implement these changes with respect to each other's eligible goods, effective June 1, 2012.

In Proclamation 6969 of January 27, 1997, the President authorized the USTR to exercise the authority provided to the President under section 604 of the Trade Act of 1974 to embody rectifications, technical or conforming changes, or similar modifications in the HTS. The United States and Australia have identified a technical correction to the modification to the rule of origin set out in Proclamation 8334. Accordingly, general note 28 to the HTS of the United States, subdivision (n), paragraph 1, is corrected to refer to subheadings 5501.10 through 5501.30, rather than 5501.00 through 5501.30.

Ambassador Ron Kirk,
United States Trade Representative.

[FR Doc. 2012-12935 Filed 5-25-12; 8:45 am]

BILLING CODE 3190-W2-P